DEPARTMENT OF HEALTH AND HUMAN SERVICES

Centers for Disease Control and Prevention

[30Day-11-11EM]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC, or by fax to (202) 395-5806. Written comments should be received within 30 days of this notice.

Proposed Project

National Survey of Primary Care Policies for Managing Patients with High Blood Pressure, High Cholesterol, or Diabetes—New—Division of Heart Disease and Stroke Prevention (DHDSP), National Center for Chronic Disease Prevention and Health Promotion (NCCDPHP), Centers for Disease Control and Prevention (CDC).

Background and Brief Description

Cardiovascular disease is a leading cause of death and disability for men and women in the United States, among the most costly health problems facing our nation today, and among the most preventable. Risk factors for cardiovascular disease include high blood pressure and high cholesterol. Because over 50% of diabetics have high blood pressure, high cholesterol, or both conditions, the optimal systems to treat people with hypertension, high cholesterol, or diabetes are interrelated.

In 2005, CDC's Division for Heart Disease and Stroke Prevention (DHDSP) began developing evaluation indicators that reflect evidence-based outcomes from policy, systems, and environmental changes related to heart disease and stroke prevention. However, many of the indicators for short-term policy and systems changes do not have readily available data sources. This is particularly true for outcomes related to health care systems changes.

In 2011, CDC proposes to conduct a new information collection, the National Survey of Primary Care Policies for Managing Patients with High Blood Pressure, High Cholesterol, or Diabetes (NSPCP). The survey will be targeted to practice managers of non-federally run primary care physician practices that include at least one family practitioner or at least one physician specializing in internal medicine. Respondents will be drawn from a nationally representative sample of physician practices. The NSPCP survey instrument will undergo cognitive testing before dissemination.

The Web-based NSPCP will collect information about physician practices' use of evidence-based systems, including multidisciplinary team approaches for chronic disease treatment, electronic health records (EHR) with features appropriate for treating patients with chronic disease (e.g., clinical decision supports, patient registries), and patient follow-up mechanisms. A follow-up survey will be conducted two years after completion of the baseline NSPCP. Approximately 900 physicians will participate in each cycle of data collection (baseline and follow-up). On an annualized basis, approximately 600 physicians will participate in the NSPCP per year, and 1,333 practices will be screened for participation.

Information from both cycles of data collection will be compared to monitor changes in health systems and dissemination of health systems technology. Results will be used by primary care practices to inform their systems for managing patients with chronic conditions and to improve the quality of care delivered. Results will be used by CDC to improve technical assistance to public health partners.

OMB approval is requested for three years. Participation in the NSPCP is voluntary, and all responses will be de-identified. There are no costs to respondents other than their time. The total estimated annualized burden hours are 317.

Estimated Annualized Burden Hours
Type of respondents | Form name | Number of respondents | Number of responses per respondent | Avg. burden per response (in hr)
Physician | Cognitive Testing Interview Guide | 5 | 1 | 75/60
Medical Secretary | NSPCP Screener | 1,333 | 1 | 5/60
Physician | NSPCP | 600 | 1 | 20/60

Dated: July 22, 2011.
Daniel Holcomb,
Reports Clearance Officer, Centers for Disease Control and Prevention.

[FR Doc. 2011-19109 Filed 7-27-11; 8:45 am]

BILLING CODE 4163-18-P